DEPARTMENT OF JUSTICE

Notice of Lodging of Consent Decree Under the Comprehensive Environmental Response, Compensation, and Liability Act

Consistent with Section 122 of the Comprehensive Environmental Response, Compensation, and Liability Act of 1980, as amended (“CERCLA”), 42 U.S.C. 9622(d), and 28 CFR 50.7, notice is hereby given that on January 5, 2011, the United States lodged a Consent Decree with Seven Out, LLC and BCX, Inc. (“Settling Defendants”) in United States of America v. Seven Out LLC, and BCX, Inc., Case No. 3:11-cv-0009-UAMH-MCR (U.S.D.C. M.D. Fla.), with respect to the BCX Tank Superfund Site, located at 1903 East Adams Street, Jacksonville, Duval County, Florida (the “Site”).

On January 4, 2011, Plaintiff United States of America (“United States”), on behalf of the United States Environmental Protection Agency (“EPA”) filed a complaint in this matter against defendants Seven Out, LLC and BCX, Inc, pursuant to CERCLA Section 107, 42 U.S.C. 9607, seeking recovery of environmental response costs incurred by EPA related to the release or threatened release or disposal of hazardous substances at or from the Site.

Financial information provided by the Settling Defendants indicated an inability to pay. However, pursuant to the Consent Decree, the United States will receive a payment from the Defendant's insurer in the amount of $350,000. Under the proposed Consent Decree, the United States, will also receive the Net Proceeds of the sale of the Site property. In exchange, the proposed Consent Decree provides Settling Defendants with a covenant not to sue and contribution protection with respect to the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. Seven Out LLC, and BCX, Inc., Case No. 3:11-cv-0009-UAMH-MCR (U.S.D.C. M.D. Fla.) (DOJ Ref. No. 90-11-3-09152). The Consent Decree may be examined at U.S. Environmental Protection Agency, Office of Regional Counsel, EPA Region 4, 61 Forsyth Street, SW., Atlanta, GA 30303-8960 (contact Stacey Haire, (404) 562-9676). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. Seven Out LLC, and BCX, Inc., Case No. 3:11-cv-0009-UAMH-MCR (U.S.D.C. M.D. Fla.) (DOJ Ref. No. 90-11-3-09152), and enclose a check in the amount of $8.25 (25 cents per page reproduction cost) payable to the U.S. Treasury or, if by e-mail or fax, forward a check in that amount to the Consent Decree Library at the stated address.

Maureen Katz,
Assistant Chief, Environmental Enforcement Section, Environment and Natural Resources Division.

[FR Doc. 2011-463 Filed 1-11-11; 8:45 am]

BILLING CODE 4410-15-P